FEDERAL TRADE COMMISSION

16 CFR Part 305

RIN 3084-AA74

Appliance Labeling Rule

AGENCY: Federal Trade Commission (“FTC” or “Commission”).

ACTION: Final rule; Correction.

SUMMARY: The Commission published a final rule on July 19, 2010 (75 FR 41696), adopting amendments to the Appliance Labeling Rule, 16 CFR part 305 (“Rule”) related to light bulb labeling. This document makes technical corrections to the final rule.

DATES: Effective December 21, 2011.

ADDRESSES: Requests for copies of this document are available from: Public Reference Branch, Room 130, Federal Trade Commission, 600 Pennsylvania Avenue NW., Washington, DC 20580. The complete record of this proceeding is also available at that address. Relevant portions of the proceeding, including this document, are available at http://www.ftc.gov.

FOR FURTHER INFORMATION CONTACT: Hampton Newsome, (202) 326-2889, Attorney, Division of Enforcement, Bureau of Consumer Protection, Federal Trade Commission, 600 Pennsylvania Avenue NW., Washington, DC 20580.

SUPPLEMENTARY INFORMATION: Over the last two years, the Commission has issued amendments to its Appliance Labeling Rule (16 CFR part 305) in two separate Federal Register Notices involving: (1) Light bulbs (75 FR 41696 (July 19, 2010)), and (2) television labels (76 FR 1038 (Jan. 6, 2011)). The effective dates of these two final rules differ. The television label amendments, published on January 6, 2011, became effective on May 10, 2011, while the earlier light bulb amendments will not become effective until January 1, 2012.¹ As a result, two amendatory instructions in the light bulb notice are not consistent with current Rule provisions. This notice removes those two instructions. The Commission is also issuing a separate technical correction notice to replace these instructions with revised rule language.

¹ Though the July 19, 2010 notice set the effective date as July 19, 2011, the Commission subsequently changed that date to January 1, 2012. See 76 FR 20233 (April 12, 2011).

In FR Doc. 2010-16895 appearing on pages 41713 and 41717 in the Federal Register on July 19, 2010, the following corrections are made:

§ 305.3 [Corrected]

1. On page 41713, in the second and third columns, and page 41714, in the first column, instruction 2 and the amendments to § 305.3 are removed.

Appendix L to Part 305 [Corrected]

2. On page 41717, in the third column, and pages 41718 through 41724, instruction 10 and the amendments to Appendix L to Part 305 is removed.

Donald S. Clark,
Secretary.

[FR Doc. 2011-32271 Filed 12-20-11; 8:45 am]

BILLING CODE P